DEPARTMENT OF TRANSPORTATION

Federal Aviation Administration

Agency Information Collection Agency Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collection. The ICR describes the nature of the information collection and the expected burden. The Federal Register Notice with a 60-day comment period soliciting comments on the following collection information was published on July 25, 2003 on page 44137.

DATES: Comments must be submitted on or before December 5, 2003. A comment to OMB is most effective if OMB receives it within 30 days of publication.

FOR FURTHER INFORMATION CONTACT: Judy Street on (202) 267-9895.

SUPPLEMENTARY INFORMATION:

Federal Aviation Administration (FAA)

Title: Safe Disposition of Life Limited Aircraft Parts.

Type of Request: Extension of a currently approved collection.

OMB Control Number: 2120-0665.

Forms(s) N/A.

Affected Public: A total of 8,000 air carriers and manufacturers.

Abstract: This action responds to the Wendall H. Ford Investment and Reform Act for the 21st Century by requiring that all persons who remove any life-limited aircraft part be required to have a method to prevent the installation of that part after it has reached its life limit. This action reduces the risk of life-limited parts being used beyond their life limits. This action also requires that manufacturers of life-limited parts provide marking instructions, when requested.

Estimated Annual Burden Hours: An estimated 104,000 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington DC, on October 29, 2003.
Judith D. Street,
FAA Information Collection Clearance Officer, APF-100.

[FR Doc. 03-27758 Filed 11-4-03; 8:45 am]

BILLING CODE 4910-13-M